DEPARTMENT OF JUSTICE

Drug Enforcement Administration

Iliana M. Cabeza, D.D.S.; Revocation of Registration

On June 26, 2000, the Deputy Assistant Administrator, Office of Diversion Control, Drug Enforcement Administration (DEA), issued an Order to Show Cause (OTSC) by certified mail to Iliana M. Cabeza, D.D.S., (Respondent) notifying her of an opportunity to show cause as to why the DEA should not revoke her DEA Certificate of Registration AC2230338, pursuant to 21 U.S.C. 824(a)(2), and (4), and deny any pending applications for renewal of this registration, pursuant to 21 U.S.C. § 823(f), for the reasons that Respondent entered a plea of guilty to Conspiracy to Possess with Intent to Distribute Cocaine, a Schedule II substance; and that the Florida Department of Health ordered the immediate suspension of the Respondent's state license to practice dentistry. By letter dated August 1, 2000, Respondent, through counsel, requested a hearing in this matter.

On August 14, 2000, Administrative Law Judge Gail A. Randall issued an order for Prehearing Statements. On August 31, 2000, the Government filed a motion seeking summary disposition, arguing that Respondent is no longer authorized to handle controlled substances in the State of Florida, where Respondent's DEA Certificate of Registration states she conducts her business. The Government attached to its motion a copy of an Order of Emergency Suspension of License, issued by the Florida Department of Health; a copy of Respondent's DEA Certificate of Registration with an expiration date of August 31, 2002; and a sworn statement from the Chief of the Registration Unit of DEA, certifying the Certificate's authenticity.

By an Order dated September 1, 2000, Judge Randall stayed the proceedings pending the resolution of the Government's motion, and she allowed the Respondent until September 12, 2000, to respond to the Government's motion. The Respondent did not file a response by this deadline. Rather, on October 13, 2000, the Respondent filed an Unopposed Motion for Enlargement of Time, asserting that the parties were attempting to resolve the matter. Although the motion was untimely filed, Judge Randall accepted it, and by order dated October 17, 2000, she allowed Respondent until November 20, 2000, to respond to the Government's Motion for Summary Disposition. As of this date, the investigative file contains no response from Response nor anyone purporting to represent her.

The Administrator has considered the record in its entirety, and pursuant to 21 CFR 1316.67, hereby issues his final order based upon findings of fact and conclusions of law as hereinafter set forth. The Administrator adopts in full the Opinion and Recommended Decision of the Administrative Law Judge.

The DEA does not have the statutory authority pursuant to the Controlled Substances Act to issue or to maintain a registration if the applicant or registrant is without state authority to handle controlled substances in the state in which he or she practices. See 21 U.S.C. 802(21), 823(f), and 824(a)(3). This prerequisite has been consistently upheld in prior DEA cases. See Graham Travers Schuler, M.D., 65 FR 50570 (2000); Romeo J. Perez, M.D., 62 FR 16193 (1997); Demetris A. Green, M.D., 61 FR 60728 (1996); Dominick A. Ricci, M.D., 58 FR 51104 (1993).

In the instant case, the Administrator finds the Government has presented evidence demonstrating that the Respondent is not authorized to practice dentistry in Florida, and therefore, the Administrator infers that Respondent is also not authorized to handle controlled substances in Florida, where she practices, according to the address listed on her DEA Certificate of Registration. The Administrator finds that Judge Randall allowed Respondent ample time to refute the Government's evidence, and that Respondent has submitted no evidence or assertions to the contrary. Thus, there is no genuine issue of material fact concerning Respondent's lack of authorization to practice dentistry in Florida or to handle controlled substances in that state.

The Administrator concurs with Judge Randall's finding that it is well settled that when there is no question of material fact involved, there is no need for a plenary, administrative hearing. Congress did not intend for administrative agencies to perform meaningless tasks. See Michael G. Dolin, M.D., 65 FR 5661 (2000); Jesus R. Juarez, M.D., 62 FR 14945 (1997); see also Philip E. Kirk, M.D., 48 FR 32887 (1983), aff'd sub nom. Kirk v Mullen, 749 F.2d 297 (6th Cir. 1984).

Accordingly, the Administrator of the Drug Enforcement Administration, pursuant to the authority vested in him by 21 U.S.C. 823 and 824 and 28 CFR 0.100(b) and 0.104, hereby orders the DEA Certificate of Registration AC2230338, issued to Iliana M. Cabeza, D.D.S., be, and it hereby is, revoked; and that any pending applications for the renewal or modification of said Certificate be denied. This order is effective November 19, 2001.

Dated: October 10, 2001.
Asa Hutchinson,
Administrator.

[FR Doc. 01-26184 Filed 10-17-01; 8:45 am]

BILLING CODE 4410-09-M